ENVIRONMENTAL PROTECTION AGENCY

[ER-FRL-9054-3]

Environmental Impact Statements; Notice of Availability

Responsible Agency: Office of Federal Activities, General Information 202-564-5632 or https://www.epa.gov/nepa.

Weekly receipt of Environmental Impact Statements (EIS)

Filed November 30, 2020 10 a.m. EST Through December 7, 2020 10 a.m. EST

Pursuant to 40 CFR 1506.9.

Notice Section 309(a) of the Clean Air Act requires that EPA make public its comments on EISs issued by other Federal agencies. EPA's comment letters on EISs are available at: https://cdxnodengn.epa.gov/cdx-enepa-public/action/eis/search.

EIS No. 20200249, Final Supplement, USFS, WV, Mountain Valley Pipeline and Equitrans Expansion Project, Review Period Ends: 01/11/2021, Contact: Ken Arney, Regional Forester 888-603-0261.

EIS No. 20200250, Draft Supplement, USN, AK, Gulf of Alaska Navy Training Activities, Comment Period Ends: 02/16/2021, Contact: Kimberly Kler 360-315-5103.

EIS No. 20200251, Final, USCG, GU, ADOPTION—Mariana Islands Training and Testing Final EIS-OEIS, Contact: Maile Norman 808-535-3264.

The United States Coast Guard (USCG) has adopted the United States Navy Final EIS No. 20150136, filed 5/15/2015 with EPA. USCG was a cooperating agency on this project. Therefore, republication of the document is not necessary under Section 1506.3(b)(2) of the CEQ regulations.

EIS No. 20200252, Final Supplement, USCG, GU, ADOPTION—Mariana Islands Training and Testing, Contact: Maile Norman 808-535-3264.

The United States Coast Guard (USCG) has adopted the United States Navy Final Supplemental EIS No. 20200155, filed 5/29/2020 with EPA. USCG was a cooperating agency on this project. Therefore, republication of the document is not necessary under Section 1506.3(b)(2) of the CEQ regulations.

EIS No. 20200253, Final, BR, CO, Paradox Valley Unit of the Colorado River Basin Salinity Control Program, Review Period Ends: 01/11/2021, Contact: Ed Warner 970-248-0654.

EIS No. 20200254, Final, USFS, WY, Snow King Mountain Resort On-Mountain Improvements, Review Period Ends: 01/11/2021, Contact: Sean McGinnes and Anita DeLong 307-739-5415 x30741.

EIS No. 20200255, Second Final Supplemental, USACE, MS, Final Supplement No. 2 to the 1982 Yazoo Area Pump Project Final EIS, Review Period Ends: 01/11/2021, Contact: Sara Thames 601-631-5894.

EIS No. 20200256, Revised Draft, USACE, LA, Upper Barataria Basin, Louisiana Feasibility Study, Comment Period Ends: 01/25/2021, Contact: Patricia Naquin 504-862-1544.

EIS No. 20200257, Draft, BLM, AK, Central Yukon Resource Management Plan, Comment Period Ends: 03/11/2021, Contact: Michelle Ethun 907-474-2253.

EIS No. 20200258, Final Supplement, BIA, NV, Arrow Canyon Solar Project, Review Period Ends: 01/11/2021, Contact: Chip Lewis 602-379-6750.

EIS No. 20200259, Final, NOAA, TX, Flower Garden Banks National Marine Sanctuary Expansion, Review Period Ends: 01/11/2021, Contact: G.P. Schmahl 409-621-5151 x102.

Amended Notice

EIS No. 20200212, Third Draft Supplemental, USFS, AK, Kensington Gold Mine Plan of Operations Amendment 1, Comment Period Ends: 01/04/2021, Contact: Matthew Reece 907-789-6274.

Revision to FR Notice Published 10/30/2020; Extending the Comment Period from 12/14/2020 to 1/4/2021.

EIS No. 20200217, Draft, USACE, TX, Coastal Texas Protection and Restoration Feasibility Study, Comment Period Ends: 01/13/2021, Contact: Jeff Pinsky 409-766-3039.

Revision to FR Notice Published 10/30/2020; Extending the Comment Period from 12/14/2020 to 01/13/2021.

EIS No. 20200236, Final Supplement, USACE, AL, Allatoona Lake Water Supply Storage Reallocation Study and Updates to Weiss and Logan Martin Reservoirs Project Water Control Manuals, Alabama and Georgia (or Allatoona-Coosa Reallocation Study), Review Period Ends: 01/11/2021, Contact: Mr. Mike Malsom 251-690-2023.

Revision to FR Notice Published 11/20/2020; Extending the Comment Period from 12/21/2020 to 01/11/2021.

Dated: December 8, 2020.
Cindy S. Barger,
Director, NEPA Compliance Division, Office of Federal Activities.

[FR Doc. 2020-27266 Filed 12-10-20; 8:45 am]

BILLING CODE 6560-50-P